DEPARTMENT OF ENERGY

Federal Energy Regulatory Commission

Combined Notice of Filings #1

Take notice that the Commission received the following electric corporate filings:

Docket Numbers: EC14-37-000.

Applicants: Glacial Energy Holdings, Glacial Energy of California, Inc., Glacial Energy of Illinois, Inc., Glacial Energy of New England, Inc., Glacial Energy of New England, Inc., Glacial Energy of New Jersey, Inc., Glacial Energy of New York, Voltage Energy Holdings, Inc.

Description: Application for Authorization under Section 203 of Glacial Energy Holdings, et al.

Filed Date: 12/19/13.

Accession Number: 20131219-5030.

Comments Due: 5 p.m. ET 1/9/14.

Take notice that the Commission received the following electric rate filings:

Docket Numbers: ER10-1982-008; ER10-1246-007; ER10-1252-007; ER10-1253-007.

Applicants: Consolidated Edison Company of New York, Inc., Orange and Rockland Utilities, Inc., Consolidated Edison Energy, Inc., Consolidated Edison Solutions, Inc.

Description: Triennial Market Power Analysis in Northeast region of the Con Edison Companies.

Filed Date: 12/18/13.

Accession Number: 20131218-5234.

Comments Due: 5 p.m. ET 2/18/14.

Docket Numbers: ER11-2853-002.

Applicants: Public Service Company of Colorado.

Description: Public Service Company of Colorado submits 20131218_PSCo FCA and Protocols Att C to be effective 9/1/2011.

Filed Date: 12/18/13.

Accession Number: 20131218-5206.

Comments Due: 5 p.m. ET 1/8/14.

Docket Numbers: ER13-99-002.

Applicants: Puget Sound Energy, Inc.

Description: Puget Sound Energy, Inc. submits OATT Order No 1000 Compliance Filing to be effective 2/17/2014.

Filed Date: 12/18/13.

Accession Number: 20131218-5197.

Comments Due: 5 p.m. ET 1/16/14.

Docket Numbers: ER13-104-002.

Applicants: Florida Power & Light Company.

Description: Florida Power & Light Company submits FPL Order No. 1000 Further Regional Compliance Filing to be effective 1/1/2015.

Filed Date: 12/19/13.

Accession Number: 20131219-5028.

Comments Due: 5 p.m. ET 1/16/14.

Docket Numbers: ER14-689-000.

Applicants: Midcontinent Independent System Operator, Inc.

Description: Midcontinent Independent System Operator, Inc. submits 12-16-2013 Entergy IAs Succession Filing Part 1 to be effective 12/19/2013.

Filed Date: 12/18/13.

Accession Number: 20131218-5172.

Comments Due: 5 p.m. ET 1/8/14.

Docket Numbers: ER14-689-001.

Applicants: Midcontinent Independent System Operator, Inc.

Description: Midcontinent Independent System Operator, Inc. submits 12-16-2013 Entergy IAs Succession Filing Part 2 to be effective 12/19/2013.

Filed Date: 12/18/13.

Accession Number: 20131218-5214.

Comments Due: 5 p.m. ET 1/8/14.

Docket Numbers: ER14-690-000.

Applicants: The United Illuminating Company.

Description: The United Illuminating Company submits Cancellation of Localized Costs Sharing Agreement No. 14 to be effective 12/1/2013.

Filed Date: 12/18/13.

Accession Number: 20131218-5173.

Comments Due: 5 p.m. ET 1/8/14.

Docket Numbers: ER14-691-000.

Applicants: The United Illuminating Company.

Description: The United Illuminating Company submits Localized Costs Sharing Agreement with Emera Energy Services Subsidiary No. 5 to be effective 12/1/2013.

Filed Date: 12/18/13.

Accession Number: 20131218-5182.

Comments Due: 5 p.m. ET 1/8/14.

Docket Numbers: ER14-692-000.

Applicants: Westar Energy, Inc.

Description: Westar Energy, Inc. submits Revisions to Wholesale Power Sales Service Agreements, Units Most Likely to be effective 3/1/2014.

Filed Date: 12/18/13.

Accession Number: 20131218-5195.

Comments Due: 5 p.m. ET 1/8/14.

Docket Numbers: ER14-693-000.

Applicants: Entergy Services, Inc.

Description: Entergy Services, Inc. submits EES LBA Agreement—Exxon Mobile Beaumont to be effective 12/19/2013.

Filed Date: 12/18/13.

Accession Number: 20131218-5208.

Comments Due: 5 p.m. ET 1/8/14.

Docket Numbers: ER14-694-000.

Applicants: Entergy Services, Inc.

Description: Entergy Services, Inc. submits EES LBA Agreement—Exxon Mobil Baton Rouge to be effective 12/19/2013.

Filed Date: 12/18/13.

Accession Number: 20131218-5212.

Comments Due: 5 p.m. ET 1/8/14.

Docket Numbers: ER14-695-000.

Applicants: Entergy Services, Inc.

Description: Entergy Services, Inc. submits: EES LBA Agreement—Axiall to be effective 12/19/2013.

Filed Date: 12/18/13.

Accession Number: 20131218-5213.

Comments Due: 5 p.m. ET 1/31/14.

Docket Numbers: ER14-696-000.

Applicants: Entergy Services, Inc.

Description: Entergy Services, Inc. submits EES LBA Agreement—Dow Plaquemine to be effective 12/19/2013.

Filed Date: 12/18/13.

Accession Number: 20131218-5215.

Comments Due: 5 p.m. ET 1/31/14.

Docket Numbers: ER14-697-000.

Applicants: Entergy Services, Inc.

Description: Entergy Services, Inc. submits EES LBA Agreement—Dow Union Carbide to be effective 12/19/2013.

Filed Date: 12/18/13.

Accession Number: 20131218-5216.

Comments Due: 5 p.m. ET 1/31/14.

Docket Numbers: ER14-698-000.

Applicants: Midcontinent Independent System Operator, Inc.

Description: Midcontinent Independent System Operator, Inc. submits 12-17-2013 AIC Attachment O Filing to be effective 1/1/2013.

Filed Date: 12/18/13.

Accession Number: 20131218-5217.

Comments Due: 5 p.m. ET 1/8/14.

Docket Numbers: ER14-699-000.

Applicants: Entergy Services, Inc.

Description: Entergy Services, Inc. submits EES LBA Agreement—ETEC to be effective 12/19/2013.

Filed Date: 12/18/13.

Accession Number: 20131218-5218.

Comments Due: 5 p.m. ET 1/31/14.

Docket Numbers: ER14-700-000.

Applicants: Entergy Services, Inc.

Description: Entergy Services, Inc. submits EES LBA Agreement—Occidental to be effective 12/19/2013.

Filed Date: 12/18/13.

Accession Number: 20131218-5219.

Comments Due: 5 p.m. ET 1/31/14.

Docket Numbers: ER14-701-000.

Applicants: Entergy Services, Inc.

Description: Entergy Services, Inc. submits EES LBA Agreement—SRW Cogen to be effective 12/19/2013.

Filed Date: 12/18/13.

Accession Number: 20131218-5220.

Comments Due: 5 p.m. ET 1/31/14.

Docket Numbers: ER14-702-000.

Applicants: Entergy Arkansas, Inc.

Description: Entergy Arkansas, Inc. submits EAI LBA Agreement—Calpine Pine Bluff to be effective 12/19/2013.

Filed Date: 12/18/13.

Accession Number: 20131218-5221.

Comments Due: 5 p.m. ET 1/31/14.

Docket Numbers: ER14-703-000.

Applicants: Entergy Services, Inc.

Description: Entergy Services, Inc. submits EES LBA Agreement—Tenaska to be effective 12/19/2013.

Filed Date: 12/18/13.

Accession Number: 20131218-5222.

Comments Due: 5 p.m. ET 1/31/14.

Docket Numbers: ER14-704-000.

Applicants: Entergy Services, Inc.

Description: Entergy Services, Inc. submits EES LBA Agreement—Sabine Cogen to be effective 12/19/2013.

Filed Date: 12/18/13.

Accession Number: 20131219-5000.

Comments Due: 5 p.m. ET 1/31/14.

Docket Numbers: ER14-705-000.

Applicants: Midcontinent Independent System Operator, Inc.

Description: Request for Waiver of certain provisions of Schedule 44 of its Tariff, of Midcontinent Independent System Operator, Inc.

Filed Date: 12/18/13.

Accession Number: 20131218-5232.

Comments Due: 5 p.m. ET 1/8/14.

Docket Numbers: ER14-706-000.

Applicants: Midcontinent Independent System Operator, Inc.

Description: Midcontinent Independent System Operator, Inc. submits 2013-12-18 compliance filing re Sched 3 and Att G re Order 784 to be effective 12/27/2013.

Filed Date: 12/19/13.

Accession Number: 20131219-5037.

Comments Due: 5 p.m. ET 1/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2013.
Nathaniel J. Davis, Sr.,
Deputy Secretary.

[FR Doc. 2013-31122 Filed 12-27-13; 8:45 am]

BILLING CODE 6717-01-P